Proclamation 9619 of May 31, 2017

Great Outdoors Month, 2017

By the President of the United States of America

A Proclamation

With June comes the summer sun, longer days, and warmer weather—the perfect opportunity to enjoy the great outdoors. During Great Outdoors Month, we encourage all Americans to experience the beauty and adventure of our Nation's lakes, mountains, and forests, and even of their own backyards.

Each of our States and territories provides endless opportunities to enjoy the great outdoors. Americans can go fishing in Eleven Mile State Park in Colorado, camp on the bluffs of Perrot State Park in Wisconsin, and bike along the Sable River in Ludington State Park in Michigan. These lands and waters are also home to cultural and historic sites that inspire our love of country and serve as important touchstones for who we are as Americans.

Whether your great outdoors means a community park, a state reservoir, a national forest, or a backyard campout, we must cherish our outdoor spaces and work to preserve them for generations. This is why, as President, I am working to bring leaders throughout the country together to improve the management of our vitally important public lands, especially through public-private partnerships to help clear the backlog of deferred maintenance.

I urge all Americans to set aside time during the month of June to visit our great outdoors and experience America's natural and cultural history. This month in particular, we celebrate our Nation's remarkable natural heritage and express our gratitude to those who help preserve our natural habitat for generations of Americans to come.

NOW, THEREFORE, I, DONALD J. TRUMP, President of the United States of America, by virtue of the authority vested in me by the Constitution and the laws of the United States, do hereby proclaim June 2017 as Great Outdoors Month. I urge all Americans to explore the great outdoors while acting as stewards of our lands and waters.

IN WITNESS WHEREOF, I have hereunto set my hand this thirty-first day of May, in the year of our Lord two thousand seventeen, and of the Independence of the United States of America the two hundred and forty-first.

[FR Doc. 2017-11774

Filed 6-2-17; 11:15 am]

Billing code 3295-F7-P